NUCLEAR REGULATORY COMMISSION

Application for a License To Export High-Enriched Uranium

Pursuant to 10 CFR 110.70(b)(2) “Public Notice of Receipt of an Application,” please take notice that the Nuclear Regulatory Commission has received the following request for an export license. Copies of the request can be accessed through the Public Electronic Reading Room (PERR) link http://www.nrc.gov/reading-rm/adams.html at the NRC Homepage.

A request for a hearing or petition for leave to intervene may be filed within 30 days after publication of this notice in the Federal Register. Any request for hearing or petition for leave to intervene shall be served by the requestor or petitioner upon the applicant, the Office of the General Counsel, U.S. Nuclear Regulatory Commission, Washington, DC 20555; the Secretary, U.S. Nuclear Regulatory Commission, Washington, DC 20555; and the Executive Secretary, U.S. Department of State, Washington, DC 20520.

In its review of the application for a license to export special nuclear material as defined in 10 CFR part 110 and noticed herein, the Commission does not evaluate the health, safety or environmental effects in the recipient nation of the material to be exported. The information concerning the application follows.

NRC Export License Application for High-Enriched Uranium
Name of applicant, date of application, date received, application number, docket number | Description of material: Material type | Description of material: Total quantity | End use | Recipient country
DOE/NNSA—Y12 National Security Complex, June 28, 2007, July 3, 2007, XSNM3504, 11005701 | High-Enriched Uranium (93.35%) | Up to 15.5 kg Uranium (14.470 kg U-235) | To fabricate targets for irradiation in the National Research Universal (NRU) Reactor to produce medical radioisotopes | Canada.

For the Nuclear Regulatory Commission.
Dated this 24th day of July 2007 at Rockville, Maryland.
Stephen Dembek,
Acting Deputy Director, Office of International Programs.

[FR Doc. E7-14861 Filed 7-31-07; 8:45 am]

BILLING CODE 7590-01-P